INTERNATIONAL TRADE COMMISSION

[Investigation Nos. 731-TA-888-890 (Review)]

Stainless Steel Angle From Japan, Korea, and Spain

AGENCY: International Trade Commission.

ACTION: Termination of five-year reviews.

SUMMARY: The subject five-year reviews were initiated in April 2006 to determine whether revocation of the antidumping duty orders on stainless steel angle from Japan, Korea, and Spain would be likely to lead to continuation or recurrence of material injury. On June 15, 2006, the Department of Commerce published notice that it was revoking the orders effective May 18, 2006, “ {b}ecause the domestic interested parties did not participate in these sunset reviews * * *” (71 FR 34599). Accordingly, pursuant to section 751(c) of the Tariff Act of 1930 (19 U.S.C. 1675(c)), the subject reviews are terminated.

DATES: Effective Date: May 18, 2006.

FOR FURTHER INFORMATION CONTACT: Mary Messer (202-205-3193), Office of Investigations, U.S. International Trade Commission, 500 E Street SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its Internet server (http://www.usitc.gov).

Authority: These reviews are being terminated under authority of title VII of the Tariff Act of 1930; this notice is published pursuant to § 207.69 of the Commission's rules (19 CFR 207.69).

Issued: June 27, 2006.
By order of the Commission.
Marilyn R. Abbott,
Secretary to the Commission.

[FR Doc. E6-10344 Filed 6-30-06; 8:45 am]

BILLING CODE 7020-02-P